NATIONAL CREDIT UNION ADMINISTRATION

Agency Information Collection Activities: Submission to OMB for Reinstatement of a Previously Approved Collection; Comment Request

AGENCY: National Credit Union Administration (NCUA).

ACTION: Request for comment.

SUMMARY: The NCUA intends to submit the following information collection to the Office of Management and Budget (OMB) for review and clearance under the Paperwork Reduction Act of 1995 (Public Law 104-13, 44 U.S.C. Chapter 35). This information collection is published to obtain comments from the public. Part 704 of the NCUA Rules and Regulations direct corporate credit unions to maintain certain records and to comply with various regulatory requirements.

DATES: Comments will be accepted until October 24, 2014.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is reinstating the collection for 3133-0129. Part 704 of the NCUA Rules and Regulations, established the regulatory framework for corporate credit unions. This includes various reporting requirements as well as safety and soundness standards. The burden for this collection has decreased from the previously approved submission as the number of corporate credit unions has declined from 27 to 15. However, the remaining corporate credit unions tend to be more complex and approved for expanded authorities.

The NCUA requests that you send your comments on this collection to the location listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Title: Corporate Credit Unions.

OMB Number: 3133-0129.

Form Number: None.

Type of Review: Reinstatement of a previously approved collection.

Description: Part 704 of the NCUA Rules and Regulations.

Respondents: Federal and State Chartered Corporate Credit Unions.

Estimated No. of Respondents/Recordkeepers: 15.

Estimated Burden Hours per Response: Various.

Frequency of Response: Various.

Estimated Total Annual Burden Hours: 2,081 hours.

Estimated Total Annual Cost: 104,050.

By the National Credit Union Administration Board.
Gerard Poliquin,
Secretary of the Board.

[FR Doc. 2014-20121 Filed 8-22-14; 8:45 am]

BILLING CODE 7535-01-P